INTERNATIONAL TRADE COMMISSION

[Investigation No. 337-TA-894]

Certain Tires and Products Containing Same; Commission Determination Not to Review an Initial Determination Granting-In-Part Complainants' Motion to Amend the Complaint and Notice of Investigation To Add Respondents

AGENCY: U.S. International Trade Commission.

ACTION: Notice.

SUMMARY: Notice is hereby given that the U.S. International Trade Commission has determined not to review an initial determination (“ID”) (Order No. 11) of the presiding administrative law judge (“ALJ”) granting-in-part complainants' motion to amend the complaint and notice of investigation to add respondents.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation under section 337 of the Tariff Act of 1930, as amended, 19 U.S.C. 1337, on September 20, 2013, based on a complaint filed by Toyo Tire & Rubber Co., Ltd. of Japan; Toyo Tire Holdings of Americas Inc. of Cypress, California; Toyo Tire U.S.A. Corp. of Cypress, California; Nitto Tire U.S.A. Inc. of Cypress, California; and Toyo Tire North America Manufacturing Inc. of White, Georgia (collectively, “Toyo”). The complaint, as supplemented, alleges a violation of section 337 by reason of infringement of certain claims of U.S. Design Patent Nos. D487,424; D610,975; D610,976; D610,977; D615,031; D626,913; D458,214; and D653,200. 78 F . 57882 (Sept. 20, 2013). The respondents are Hong Kong Tri-Ace Tire Co., Ltd. of Guangzhou, China; Weifang Shunfuchang Rubber & Plastic Co., Ltd. of Shouguang City, China; Doublestar Dong Feng Tyre Co., Ltd. of Shiyan, China; Shandong Yongtai Chemical Group Co., Ltd. of Dawang Town, Shangrao, China; MHT Luxury Alloys of Rancho Dominguez, California; Wheel Warehouse, Inc. of Anaheim, California; Shandong Linglong Tyre Co., Ltd. of Zhaoyuan City, China; Dunlap & Kyle Company, Inc., d/b/a Gateway Tire and Service of Batesville, Mississippi; Unicorn Tire Corp. of Memphis, Tennessee; West KY Customs, LLC of Benton, Kentucky; Svizz-One Corporation Ltd. of Bangpla, Thailand; South China Tire and Rubber Co., Ltd. of Guangzhou City, China; American Omni Trading Co., LLC of Houston, Texas; Tire & Wheel Master, Inc. of Stockton, California; Simple Tire of Cookeville, Tennessee; WTD Inc. of Cerritos, California; Guangzhou South China Tire & Rubber Co., Ltd. of Aotou, China; Turbo Wholesale Tires, Inc. of Irwindale, California; TireCrawler.com of Downey, California; Lexani Tires Worldwide, Inc. of Irwindale, California; Vittore Wheel & Tire of Asheboro, North Carolina; and RTM Wheel & Tire of Asheboro, North Carolina. Id. Subsequently, the investigation as to respondent Tirecrawler.com was terminated based on a settlement agreement.

On October 24, 2013, complainants Toyo moved to amend the complaint and notice of investigation to add Shandong Hengyu Science & Technology Co., Ltd. (“Shandong Hengyu”), Group A Wheels, and Auto Trend Tire and Wheel, Inc. (“Auto Trend”) as respondents. The Commission investigative attorney filed a response in support of Toyo's motion. No other responses were received.

On November 21, 2013, the ALJ issued an ID (Order No. 11). The ALJ found that good cause exists to add Shandong Hengyu as a respondent. The ALJ also found that no good cause was shown to add Auto Trend and Group A Wheels as respondents. Accordingly, the ALJ granted Toyo's motion to amend the complaint and notice of investigation to add Shandong Hengyu as a respondent, and denied Toyo's motion to amend the complaint and notice of investigation to add Auto Trend and Group A Wheels, thus granting-in-part Toyo's motion. No party petitioned for review of the ID, and the Commission has determined not to review it.

The authority for the Commission's determination is contained in section 337 of the Tariff Act of 1930, as amended (19 U.S.C. 1337), and in sections 210.42-.46 of the Commission's Rules of Practice and Procedure (19 CFR 210.42-.46).

By order of the Commission.
Issued: December 20, 2013.
Lisa R. Barton,
Acting Secretary to the Commission.

[FR Doc. 2013-30795 Filed 12-24-13; 8:45 am]

BILLING CODE 7020-02-P